DEPARTMENT OF ENERGY

Federal Energy Regulatory Commission

[Docket No. PF14-17-000]

Louisiana LNG Energy, LLC; Notice of Intent To Prepare an Environmental Impact Statement for the Proposed Mississippi River Lng Project, Request for Comments on Environmental Issues, and Notice of Public Scoping Meeting

The staff of the Federal Energy Regulatory Commission (FERC or Commission) will prepare an environmental impact statement (EIS) that will discuss the environmental impacts of the Mississippi River Liquefied Natural Gas (LNG) Project (Project) involving construction and operation of a LNG facility by Louisiana LNG Energy, LLC (LLNGE) in Plaquemines Parish, Louisiana. Under the proposed Project, LLNGE would construct, own, and operate a liquefaction terminal for the export of LNG. The terminal would include four liquefaction trains, each with a capacity of 74,380 cubic feet per day; two 100,000 cubic meter (m³) full containment LNG storage tanks; 1.9 miles of 24-inch-diameter pipeline; and 1.6 miles of 12-inch-diameter pipeline.

This notice announces the opening of the scoping process the Commission will use to gather input from the public and interested agencies on the Project. Your input will help the Commission staff determine what issues they need to evaluate in the EIS. Please note that the scoping period will close on November 3, 2014. The Commission will use this EIS in its decision-making process to determine whether the Project is in the public interest. Details on how to submit comments are in the Public Participation section of this notice.

This notice is being sent to the Commission's current environmental mailing list for this Project. State and local government representatives should notify their constituents of this proposed Project and encourage them to comment on their areas of concern.

You may submit comments in written form or verbally. Further details on how to submit written comments are in the Public Participation section of this notice. In lieu of or in addition to sending written comments, the Commission invites you to attend the public scoping meeting scheduled as follows:

Date and time | Location
October 23, 2014, 6:00 PM (CST) | Belle Chasse Auditorium, 8398 Hwy. 23, Belle Chasse, LA 70037, (504) 208-1320.

This public meeting is designed to provide you with more detailed information and another opportunity to offer your comments on the Project. Interested groups and individuals are encouraged to attend the meeting and present comments on the issues they believe should be addressed in the EIS. A transcript of the meeting will be made so that your comments will be accurately recorded.

If you are a landowner receiving this notice, a company representative may contact you about the acquisition of an easement to construct, operate, and maintain the proposed pipeline facilities. The company would seek to negotiate a mutually acceptable agreement. However, if the Commission approves the Project, that approval conveys with it the right of eminent domain. Therefore, if easement negotiations fail to produce an agreement, the pipeline company could initiate condemnation proceedings where compensation would be determined in accordance with state law.

A fact sheet prepared by the FERC entitled “An Interstate Natural Gas Facility on My Land? What Do I Need To Know?” is available for viewing on the FERC Web site (www.ferc.gov). This fact sheet addresses a number of typically-asked questions, including the use of eminent domain and how to participate in the Commission's proceedings.

Summary of the Proposed Project

LLNGE plans to construct, own, and operate a liquefaction terminal in Plaquemines Parish, Louisiana to enable it to liquefy natural gas for use along the lower Mississippi River and in offshore Louisiana bunker markets, as well as for export to foreign countries. The planned facility would have an export capacity of approximately two million metric tons per year (MTPY). The Project would use the planned facilities to liquefy domestic natural gas delivered via interconnects with an existing interstate natural gas pipeline. The LNG would be stored in onsite storage tanks before being loaded onto LNG carriers at the planned marine berthing and LNG transfer facilities. Construction of the Project is planned to begin in February 2016 and operations are planned to begin in the second quarter of 2018; however, LLNGE is considering a phased construction that would allow operations to commence in the second quarter of 2017. Phased construction would allow for operations to begin before construction of the storage tanks by transferring liquefied natural gas directly into a berthed LNG vessel. The Mississippi River LNG Project would include the following facilities:

• A natural gas liquefaction terminal located along the east bank of the Mississippi River in Plaquemines Parish, Louisiana that would include:

four liquefaction trains, each with a capacity of 74,380 cubic feet per day;

two 100,000 cubic meter (m³), full-containment LNG storage tanks;

marine loading facilities capable of berthing one LNG carrier up to 175,000 m³, as well as LNG bunker barges;

truck loading facilities capable of concurrently loading two trucks;

a 180 megawatt on-site electrical power generation facility with 3 gas turbines; and

ancillary gas treatment and liquefaction systems;

• 1.9 miles of 24-inch-diameter pipeline, with an associated meter station, that would deliver gas from the High Point Gas Transmission (HPGT) interstate pipeline system to the proposed terminal;

• 1.6-miles of 12-inch-diameter pipeline, with an associated meter station, that would extend from the HPGT interconnection to the Gulf South Pipeline interstate pipeline system; and

• Construction of one new compressor station located within the terminal fenceline.

A map depicting the general location of the Project facilities is included in Appendix 1.¹

¹ The appendices referenced in this notice are not being printed in the Federal Register. Copies of appendices were sent to all those receiving this notice in the mail and are available at www.ferc.gov using the link called “eLibrary” or from the Commission's Public Reference Room, 888 First Street NE., Washington, DC 20426, or call (202) 502-8371. For instructions on connecting to eLibrary, refer to the last page of this notice.

Land Requirements for Construction

The planned construction would impact a 200-acre site on the east bank of the Mississippi River in Plaquemines Parish, Louisiana, which would include the liquefaction trains, LNG storage tanks, marine and truck loading facilities, the electrical power station, and ancillary facilities. The full 200-acre site would be fenced and retained for operations of the planned Project. Construction of the two pipeline segments and associated meter stations would require approximately 42 acres of land, 22 of which would be permanently impacted during operations. LLNGE is still in the planning phase for the Project and requirements for construction workspaces, access roads, and pipe storage/contractor yards would be determined during engineering and design.

The EIS Process

The National Environmental Policy Act (NEPA) requires the Commission to take into account the environmental impacts that could result from an action whenever it considers the authorization of LNG facilities. NEPA also requires us ² to discover and address concerns the public may have about proposals. This process is referred to as “scoping.” The main goal of the scoping process is to focus the analysis in the EIS on the important environmental issues. By this notice, the Commission requests public comments on the scope of the issues to address in the EIS. We will consider all filed comments during the preparation of the EIS.

² “We,” “us,” and “our” refer to the environmental staff of the Commission's Office of Energy Projects.

In the EIS we will discuss impacts that could occur as a result of the construction and operation of the proposed Project under these general headings:

• Geology and soils;

• water resources;

• wetlands and vegetation;

• fish and wildlife, including migratory birds;

• threatened and endangered species;

• land use, recreation, and visual resources;

• air quality and noise;

• cultural resources;

• socioeconomics;

• reliability and safety;

• engineering and design material; and

• cumulative environmental impacts.

We will also evaluate reasonable alternatives to the planned Project or portions of the Project, and make recommendations on how to lessen or avoid impacts on the various resource areas.

Although no formal application has been filed by LLNGE, we have initiated our NEPA review under the Commission's pre-filing process. The purpose of the pre-filing process is to encourage the early involvement of interested stakeholders and to identify and resolve issues before the FERC receives an application. As part of our pre-filing review, we have begun to contact some federal and state agencies to discuss their involvement in the scoping process and the preparation of the EIS.

The EIS will present our independent analysis of the issues. We will publish and distribute the draft EIS for public comment. After the comment period, we will consider all timely comments and revise the document, as necessary, before issuing a final EIS. To ensure we have the opportunity to consider and address your comments, please carefully follow the instructions in the Public Participation section below.

With this notice, we are asking agencies with jurisdiction by law and/or special expertise with respect to the environmental issues of this Project to formally cooperate with us in the preparation of the EIS.³

³ The Council on Environmental Quality regulations addressing cooperating agency responsibilities are at Title 40, Code of Federal Regulations, § 1501.6.

Consultations Under Section 106 of the National Historic Preservation Act

In accordance with the Advisory Council on Historic Preservation's implementing regulations for section 106 of the National Historic Preservation Act, we are using this notice to initiate consultation with the Louisiana Office of Historic Preservation (State Historic Preservation Office [SHPO]), and to solicit their views and those of other government agencies, interested Indian tribes, and the public on the Project's potential effects on historic properties.⁴ We will define the Project-specific Area of Potential Effects (APE) in consultation with the SHPO as the Project develops. On natural gas facility projects, the APE at a minimum encompasses all areas subject to ground disturbance (examples include the terminal plot, construction right-of-way, contractor/pipe storage yards, compressor stations, and access roads). Our EIS for this Project will document our findings on the impacts on historic properties and summarize the status of consultations with the Louisiana Office of Historic Preservation under section 106.

⁴ The Advisory Council on Historic Preservation's regulations are at Title 36, Code of Federal Regulations, Part 800. Those regulations define historic properties as any prehistoric or historic district, site, building, structure, or object included in or eligible for inclusion in the National Register of Historic Places.

Public Participation

You can make a difference by providing us with your specific comments or concerns about the Project. Your comments should focus on the potential environmental effects, reasonable alternatives, and measures to avoid or lessen environmental impacts. The more specific your comments, the more useful they will be. To ensure that your comments are timely and properly recorded, please send your comments so that the Commission receives them in Washington, DC on or before November 3, 2014.

For your convenience, there are three methods which you can use to submit your comments to the Commission. In all instances please reference the Project docket number (PF14-17-000) with your submission. The Commission encourages electronic filing of comments and has expert staff available to assist you at (202) 502-8258 or efiling@ferc.gov.

(1) You can file your comments electronically using the eComment feature on the Commission's Web site (www.ferc.gov) under the link to Documents and Filings. This is an easy method for interested persons to submit brief, text-only comments on a project;

(2) You can file your comments electronically using the eFiling feature on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing”; or

(3) You can file a paper copy of your comments by mailing them to the following address: Kimberly D. Bose, Secretary, Federal Energy Regulatory Commission, 888 First Street NE., Room 1A, Washington, DC 20426.

Environmental Mailing List

The environmental mailing list includes Federal, state, and local government representatives and agencies; elected officials; environmental and public interest groups; Native American Tribes; other interested parties; and local libraries and newspapers. This list also includes all affected landowners (as defined in the Commission's regulations) who are potential right-of-way grantors, whose property may be used temporarily for Project purposes, or who own homes within certain distances of aboveground facilities, and anyone who submits comments on the Project. We will update the environmental mailing list as the analysis proceeds to ensure that we send the information related to this environmental review to all individuals, organizations, and government entities interested in and/or potentially affected by the proposed Project.

When we publish and distribute the EIS, copies will be sent to the environmental mailing list for public review and comment. If you would prefer to receive a paper copy of the document instead of the CD version or would like to remove your name from the mailing list, please return the attached Information Request (Appendix 2).

Becoming an Intervenor

Once LLNGE files its application with the Commission, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site. Please note that the Commission will not accept requests for intervenor status at this time. You must wait until the Commission receives a formal application for the project.

Additional Information

Additional information about the Project is available from the Commission's Office of External Affairs, at (866) 208-FERC, or on the FERC Web site at www.ferc.gov using the “eLibrary” link. Click on the eLibrary link, click on “General Search” and enter the docket number, excluding the last three digits in the Docket Number field (i.e., PF14-17). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries, and direct links to the documents. Go to www.ferc.gov/docs-filing/esubscription.asp.

Finally, public meetings or site visits will be posted on the Commission's calendar located at www.ferc.gov/EventCalendar/EventsList.aspx along with other related information.

Dated: October 3, 2014.
Kimberly D. Bose,
Secretary.

[FR Doc. 2014-24296 Filed 10-10-14; 8:45 am]

BILLING CODE 6717-01-P